DEPARTMENT OF LABOR

Employment and Training Administration

[TA-W-71,287; TA-W-71,287A; TA-W-71,287B; TA-W-71,287C]

Masco Builder Cabinet Group Including On-Site Leased Workers From Reserves Network, Jackson, OH; Masco Builder Cabinet Group, Waverly, OH; Masco Builder Cabinet Group, Seal Township, OH; Masco Builder Cabinet Group, Seaman, OH; Amended Certification Regarding Eligibility To Apply for Worker Adjustment Assistance

In accordance with Section 223 of the Trade Act of 1974, as amended (“Act”), 19 U.S.C. 2273, the Department of Labor issued a Certification of Eligibility to Apply for Worker Adjustment Assistance on October 16, 2009, applicable to workers and former workers of Masco Building Cabinet Group, Jackson, Ohio. The workers are engaged in activity related to the production of cabinets and cabinet frames used for the residential housing market. The Notice was published soon in the Federal Register on December 11, 2009 (74 FR 65798).

The Department has received information that the appropriate subdivision includes three affiliated production facilities that produce cabinets for the residential housing market.

Based on these findings, the Department is amending this certification to include workers of Masco Building Cabinet Group in Waverly, Ohio, Seal Township, Ohio, and Seaman, Ohio.

The amended notice applicable to TA-W-71,287 is hereby issued as follows:

All workers of Masco Building Cabinet Group, including on-site leased workers from Reserves Network, Jackson, Ohio (TA-W-71,287), Masco Building Cabinet Group, Waverly, Ohio (TA-W-71,287A), Masco Building Cabinet Group, Seal Township, Ohio (TA-W-71,287B), and Masco Building Cabinet Group, Seaman, Ohio (TA-W-71,287C), who became totally or partially separated from employment on or after June 11, 2008, through October 16, 2011, and all workers in the group threatened with total or partial separation from employment on the date of certification through two years from the date of certification, are eligible to apply for adjustment assistance under Chapter 2 of Title II of the Trade Act of 1974, as amended.

Signed at Washington, DC, this 22nd day of December 2010.
Del Min Amy Chen,
Certifying Officer, Office of Trade Adjustment Assistance.

[FR Doc. 2011-512 Filed 1-11-11; 8:45 am]

BILLING CODE 4510-FN-P